DEPARTMENT OF COMMERCE

International Trade Administration

[A-533-810]

Stainless Steel Bar from India: Notice of Initiation of Antidumping Duty New Shipper Review

AGENCY: Import Administration, International Trade Administration, Department of Commerce.

SUMMARY: The Department of Commerce has received a request for a new shipper review of the antidumping duty order on stainless steel bar from India. In accordance with section 751(a)(2)(B) of the Tariff Act of 1930, as amended, and 19 CFR 351.214(d), we are initiating an antidumping duty new shipper review of Sunflag Iron & Steel Co. Ltd.

EFFECTIVE DATE: March 30, 2007.

FOR FURTHER INFORMATION CONTACT: Devta Ohri or Brandon Farlander, AD/CVD Operations, Office 1, Import Administration, International Trade Administration, U.S. Department of Commerce, 14th Street and Constitution Avenue, NW, Washington, DC 20230; telephone: (202) 482-3853 or (202) 482-0182, respectively.

SUPPLEMENTARY INFORMATION:

Background

On February 21, 1995, the Department of Commerce (“Department”) published in the Federal Register the antidumping duty order on stainless steel bar (“SSB”) from India. See Antidumping Duty Orders: Stainless Steel Bar form Brazil, India and Japan, 60 FR 9661 (February 21, 1995).

On February 28, 2007, the Department received a timely request from Sunflag Iron & Steel Co. Ltd. (“Sunflag”), for a new shipper review of the antidumping duty order on SSB from India, in accordance with 19 CFR 351.214(c).

Pursuant to section 751(a)(2)(B)(i)(I) of the Tariff Act of 1930, as amended (“the Act”), and 19 CFR 351.214(b)(2)(i), Sunflag certified in its request that it did not export the subject merchandise to the United States during the period of investigation (“POI”). In addition, pursuant to section 751(a)(2)(B)(i)(II) of the Act and 19 CFR 351.214(b)(2)(iii)(A), Sunflag certified that it is not currently affiliated and never has been affiliated with any exporter or producer who exported the subject merchandise to the United States during the POI (July 1, 1993, through December 31, 1993), including those not individually examined during the investigation.

Pursuant to 19 CFR 351.214(b)(2)(iv), Sunflag also submitted documentation establishing the date on which its stainless steel bar was first shipped for export to the United States, the volume of that shipment, and the date of the first sale to an unaffiliated customer in the United States.

The Department conducted a query of the U.S. Customs and Border Protection (“CBP”) database to confirm that Sunflag's shipment of subject merchandise had entered the United States for consumption and has been suspended for antidumping duties. The Department also corroborated Sunflag's assertion that it made no subsequent shipments to the United States by reviewing CBP data.

Initiation of Review

In accordance with section 751(a)(2)(B) of the Act, and 19 CFR 351.214(d), we find that the request submitted by Sunflag meets the threshold requirements for initiation of a new shipper review. See Memorandum to the File from Devta Ohri, International Trade Compliance Analyst, through Susan Kuhbach, Senior Office Director, Office 1: New Shipper Review Initiation Checklist, dated March 23, 2007. Accordingly, we are initiating a new shipper review of the antidumping duty order on stainless steel bar from India.

This review covers the period February 1, 2006 through January 31, 2007. We intend to issue the preliminary results of this review no later than 180 days after the date on which this review is initiated, and the final results within 90 days after the date on which we issue the preliminary results. See Section 751(a)(2)(B)(iv) of the Act.

Cash Deposit Requirements

On August 17, 2006, the Pension Protection Act of 2006 (H.R. 4) was signed into law. Section 1632 of H.R. 4 temporarily suspends the authority of the Department to instruct U.S. Customs and Border Protection to collect a bond or other security in lieu of a cash deposit in new shipper reviews during the period April 1, 2006 through June 30, 2009. Therefore, the posting of a bond or other security under section 751(a)(2)(B)(iii) of the Act in lieu of a cash deposit is not available in this case. Importers of subject merchandise manufactured and exported by Sunflag must continue to pay a cash deposit of estimated antidumping duties on each entry of subject merchandise at the current all-others rate of 12.45 percent. See Notice of Final Determination of Sales at Less Than Fair Value: Stainless Steel Bar from India, 59 FR 66915 (December 28, 1994).

Interested parties may submit applications for disclosure of business proprietary information under administrative protective order in accordance with 19 CFR 351.305 and 351.306.

This initiation and this notice are issued and published in accordance with section 751(a)(2)(B) of the Act and sections 351.214(d) and 351.221(c)(1)(i) of the Department's regulations.

Dated: March 23, 2007.
Stephen J. Claeys,
Deputy Assistant Secretary for Import Administration.

[FR Doc. E7-5867 Filed 3-29-07; 8:45 am]

BILLING CODE 3510-DS-S